DEPARTMENT OF HEALTH AND HUMAN SERVICES

Administration for Community Living

Administration on Disabilities, The President's Committee for People With Intellectual Disabilities

AGENCY: Administration for Community Living, HHS.

ACTION: Notice.

SUMMARY: The President's Committee for People with Intellectual Disabilities (PCPID) will host a virtual meeting for its members to address issues surrounding Home and Community Based Services (HCBS) to be examined in the Committee's Report to the President. All the PCPID meetings, in any format, are open to the public. This virtual meeting will be conducted in a discussion format with committee members addressing the issues and recommendations identified by PCPID workgroups proposing to be incorporated in the PCPID Report to the President.

DATES: The meeting will take place virtually on March 21, 2024 from 12:00 p.m. to 5:00 p.m. (EST).

Comments received by March 12, 2024 will be shared with the PCPID at the March 21, 2024 meeting.

ADDRESSES:

Comments: Comments and suggestions may be shared through the following ACL.gov link: https://acl.gov/form/pcpid.

Webinar/Conference Call: The virtual meeting is scheduled for Thursday, March 21, 2024 from 12:00 p.m. to 5:00 p.m. (EST) and may end early if discussions are finished. The meeting is open to the public and will be held through a zoom meeting platform. In order to observe the proceedings, you must register in advance of the meeting at the following link: https://www.zoomgov.com/webinar/register/WN_HnpxBCCsSUGJv6SX_O_YlQ.

FOR FURTHER INFORMATION CONTACT: Mr. David Jones, Director, Office of Intellectual Developmental Disabilities, 330 C Street SW, Switzer Building, Room 1126, Washington, DC 20201. Telephone: 202-795-7367. Fax: 202-795-7334. Email: David.Jones@acl.hhs.gov.

SUPPLEMENTARY INFORMATION:

Agenda: The Committee will collectively discuss the HCBS issues and recommendations identified by four PCPID workgroups as it relates to the areas of direct support professionals, employment, community living, and Federal support programs. This discussion will help develop a framework for the preparation of the PCPID Report to the President.

Comments: Stakeholder input is very important to the PCPID. Comments and suggestions especially from people with intellectual disabilities, are welcomed. If there are comments related to HCBS or other areas that you would like to inform the PCPID, please share them through the following ACL.gov link: https://acl.gov/form/pcpid.

Background Information on the Committee: The PCPID acts in an advisory capacity to the President and the Secretary of Health and Human Services on a broad range of topics relating to programs, services and support for individuals with intellectual disabilities. The function of PCPID is to: (1) provide such advice concerning intellectual disabilities as the President or the Secretary of Health and Human Services may request; and (2) provide advice to the President and the Secretary of Health and Human Services to promote full participation of people with intellectual disabilities in their communities, such as: (A) expanding educational opportunities; (B) promoting housing opportunities; (C) expanding opportunities for competitive integrated employment; (D) improving accessible transportation options; (E) protecting rights and preventing abuse; and (F) increasing access to assistive and universally designed technologies; and (3) provide advice to the President and the Secretary of Health and Human Services to help advance racial equity and support for people with intellectual disabilities within underserved communities.

Statutory Authority: E.O. 14048, 85 FR 57313.

Dated: February 14, 2024.
Jill Jacobs,
Commissioner, Administration on Disabilities.

[FR Doc. 2024-03458 Filed 2-20-24; 8:45 am]

BILLING CODE 4154-01-P